DEPARTMENT OF THE INTERIOR

Fish and Wildlife Service

Notice of Extension for Public Scoping Comments for the Preparation of an Environmental Impact Statement for the Proposed Exchange of Lands With Federal Interest on South Fox Island, Leelanau County, MI, Between the State of Michigan and a Private Citizen

AGENCY: Fish and Wildlife Service, Interior, lead; National Park Service, Interior, cooperating; Michigan Department of Natural Resources, cooperating.

ACTION: Notice of intent to prepare an Environmental Impact Statement; extension of comment period.

SUMMARY: This document announces a second extension of the comment period for an additional 30 days to allow further participation in the scoping process. For additional information, the original announcement regarding the notice of intent to prepare an Environmental Impact Statement was published in the Federal Register on May 16, 2001, beginning on page 27154. Copies of the document can be obtained by contacting the individuals listed in the original announcement.

The notice of intent and supplementary information can also be viewed via the internet at (http://midwest.fws.gov/nepa).

DATES: Written comments must be received on or before COB August 31, 2001.

FOR FURTHER INFORMATION CONTACT: For the various agencies, the contacts are: Mr. Craig A. Czarnecki, U.S. Fish and Wildlife Service, East Lansing Field Office, 2651 Coolidge Road, Suite 101, East Lansing, MI 48823, telephone: (517) 351-8470, facsimile: (517) 351-1443; or Mr. Jon Parker, U.S. Fish and Wildlife Service, Division of Federal Aid, Bishop Henry Whipple Building, 1 Federal Drive, Fort Snelling, MN 55111; telephone: (612) 713-5142, facsimile: (612) 713-5290; Ms. Elyse LaForest, National Park Service, 15 State Street, Boston, MA 02109, telephone: (617) 223-5190, facsimile: (617) 223-5164; Mr. Doug Erickson, Michigan Department of Natural Resources, Wildlife Division, P.O. Box 30444, Lansing, MI 48909-7944; telephone: (517) 335-4316, facsimile: (517) 373-6705.

Dated: July 17, 2001.
Marvin E. Moriarty,
Acting Regional Director, Region 3, Fort Snelling, Minnesota.

[FR Doc. 01-19124 Filed 7-31-01; 8:45 am]

BILLING CODE 4310-55-P